DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Monoclonal Antibody for Lyme Disease Diagnostic and Research

Alan G. Barbour (NIAID)

HHS Reference No. E-075-2006/0—Research Materials

Licensing Contact: Susan Ano; 301/435-5515; anos@mail.nih.gov

The hybridoma producing a monoclonal antibody against the major flagellin protein (FlaB) is available for licensing. This antibody can be used in diagnostic and research applications related to Lyme disease or other Borrelia-caused conditions. More information about this antibody can be found in Barbour et al., Infection and Immunity, May 1986, volume 52(5), pages 549-554.

Broad Spectrum Antiviral Compounds

Gary J. Nabel and Jae Ouk Kim (NIAID)

U.S. Provisional Application No. 60/775,666 filed 21 Feb 2006 (HHS Reference No. E-013-2006/0-US-01)

Licensing Contact: Susan Ano; 301/435-5515; anos@mail.nih.gov

This technology relates to broad spectrum antiviral compounds for treatment of infection caused by enveloped viruses. The compounds are fusions molecules of a phospholipase and a viral binding polypeptide. The subject technology requires the phospholipase component of the antiviral compound to have enzymatic activity, whereas previous studies demonstrating antiviral activity of some phospholipases did not require enzymatic activity. The compounds described by the current technology are not necessarily virus or viral strain specific, unlike many currently available antiviral compounds. The antiviral activity of the compounds has been demonstrated in vitro with representative viruses pseudotyped with envelope proteins from Ebola, HIV, Marburg, and VSV. Additionally, the antiviral activity was demonstrated with wild type HIV. The potential broad application of these compounds could address a significant health need for effective antivirals.

The Vaccine Research Center at the National Institute of Allergy and Infectious Diseases is seeking statements of capability or interest from parties interested in collaborative research to further develop, evaluate, or commercialize treatments or vaccines against infections caused by enveloped viruses. Please contact Anna Z. Amar at 301/451-3525 and/or aamar@niaid.nih.gov for more information.

Increased Cytokine Expression

Barbara Felber and George Pavlakis (NCI)

U.S. Provisional Application No. 60/758,819 filed 13 Jan 2006 (HHS Reference No. E-254-2005/0-US-01)

U.S. Provisional Application No. 60/758,680 filed 13 Jan 2006 (HHS Reference No. E-267-2005/0-US-01)

Licensing Contact: Susan Ano; 301/435-5515; anos@mail.nih.gov

The current technologies describe optimization of the genes encoding interleukins 12 (IL-12) and 15 (IL-15), resulting in higher levels of protein expression. Cytokines play an important role in both innate and adaptive immune responses. Their utility as immunotherapeutics against infectious disease and cancer as well as vaccine adjuvants has been previously demonstrated. However, cytokine expression from native sequences can be sub-optimal for several reasons, including potential splice sites within RNA and low stability coding sequences. The current technologies offer a means to increase expression of these important molecules. In vitro studies show a 5- to 10-fold mean increase in cytokine protein production. In some instances, further increased expression was achieved by use of a heterologous signal peptide. The subject technologies have application to DNA vaccination and treatment of diseases such as HIV, hepatitis B or C, cancer, and influenza. Some fields of use may not be available for licensing.

Dated: April 24, 2006.
Steven M. Ferguson,
Director, Division of Technology Development and Transfer, Office of Technology Transfer, National Institutes of Health.

[FR Doc. E6-6548 Filed 5-1-06; 8:45 am]

BILLING CODE 4167-01-P